ENVIRONMENTAL PROTECTION AGENCY

[FRL-10249-01-OA]

Notice of Meeting of the EPA Children's Health Protection Advisory Committee

AGENCY: Environmental Protection Agency (EPA).

ACTION: Notice of meeting.

SUMMARY: Pursuant to the provisions of the Federal Advisory Committee Act, notice is hereby given that the next meeting of the Children's Health Protection Advisory Committee (CHPAC) will be held virtually and in-person on December 1 and 2, 2022 at the U.S. Environmental Protection Agency (EPA) Headquarters located at 1200 Pennsylvania Avenue NW, Washington, DC 20460. The CHPAC advises EPA on science, regulations and other issues relating to children's environmental health.

DATES: December 1, 2022, from 10 a.m. to 5:30 p.m. and December 2, 2022, from 10 a.m. to 3:30 p.m.

ADDRESSES: The meeting will take place virtually and in-person. If you want to listen to the meeting or provide comments, please email nguyen.amelia@epa.gov for further details.

FOR FURTHER INFORMATION CONTACT: Amelia Nguyen, Office of Children's Health Protection, U.S. EPA, MC 1107T, 1200 Pennsylvania Avenue NW, Washington, DC 20460, (202) 564-4268, or nguyen.amelia@epa.gov.

SUPPLEMENTARY INFORMATION: The meetings of the CHPAC are open to the public. An agenda will be posted to https://www.epa.gov/children/childrens-health-protection-advisory-committee-chpac.

Access and Accommodations: For information on access or services for individuals with disabilities, please contact Amelia Nguyen at 202-564-4268 or nguyen.amelia@epa.gov.

Amelia Nguyen,
Biologist, Office of Children's Health Protection.

[FR Doc. 2022-21275 Filed 9-29-22; 8:45 am]

BILLING CODE 6560-50-P